DEPARTMENT OF HOMELAND SECURITY

Federal Emergency Management Agency

44 CFR Part 67

[Docket No. FEMA-P-7625]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate, has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director of the Emergency Preparedness and Response Directorate certifies that this proposed rule is exempt from the requirements of the Regulatory Flexibility Act because modified base flood elevations are required by the Flood Disaster Protection Act of 1973, 42 U.S.C. 4105, and are required to maintain community eligibility in the NFIP. No regulatory flexibility analysis has been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, flood insurance, reporting and record keeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | *Elevation in feet (NAVD): Existing | *Elevation in feet (NAVD): Modified | Communities affected
Brushy Bayou:
At confluence with Rambin Bayou | None | *168 | De Soto Parish.
Approximately 1.31 miles upstream of Interstate 49 | None | *174
Cypress Bayou:
At Wallace Lake Dam | None | *160 | De Soto Parish Town of Stonewall.
Just upstream of U.S. Highway 171 | None | *178
Rambin Bayou:
Approximately 1.84 miles downstream of Louisiana Highway 175 | None | *160 | De Soto Parish
Approximately 1.32 miles upstream of as Southbound Interstate 49 | None | *172
Sabine River:
Approximately 8.23 miles downstream of U.S. Highway 84 | None | *173 | De Soto Parish Town of Logansport.
Approximately 2.44 miles upstream of U.S. Highway 84 | None | *191
*North American Vertical Datum of 1988
De Soto Parish
Maps are available for inspection at the De Soto Parish Courthouse, 1010 Franklin Street, Mansfield, Louisiana.
Send comments to Mr. DeWayne Mitchell, De Soto Parish President, 101 Franklin Street, Mansfield, Louisiana 71052.
Town of Logansport
Maps are available for inspection at the Town Hall, 309 Main Street, Logansport, Louisiana.
Send comments to the Honorable Dennis Freeman, Mayor, Town of Logansport, 309 Main Street, Logansport, Louisiana 71049.
Town of Stonewall
Maps are available for inspection at the Town Hall, 1318 Highway 171, Stonewall, Louisiana.
Send comments to The Honorable Curtis McCune, Mayor, Town of Stonewall, 1318 Highway 171, Stonewall, Louisiana 71078.
Joe's Lake:
Entire shoreline | None | *952 | City of Cambridge, Isanti, County.
Long Lake:
Entire shoreline | None | *919 | Isanti County.
*National Geodetic Vertical Datum
Isanti County (Uncorporated Areas)
Maps are available for inspection at County Courthouse, 555 18Th Avenue, SW, Cambridge, Minnesota.
Send comments to Mr. Jerry Tweed, Isanti County Coordinator, 555 18th Avenue, SW, Cambridge, MN 55008.
City of Cambridge:
Maps are available for inspection at City Hall, 626 N. Main Street, Cambridge, Minnesota.
Send comments to The Honorable Marlys Palmer, Mayor, City of Cambridge, 626 N. Main Street, Cambridge, Minnesota 55008;.

(Catalog of Federal Domestic Assistance No. 83.100, “Flood Insurance.”)
Dated: April 23, 2003.
Anthony S. Lowe,
Mitigation Division Director, Emergency Preparedness and Response Directorate.

[FR Doc. 03-10486 Filed 4-28-03; 8:45 am]

BILLING CODE 6718-04-P